INTERNATIONAL TRADE COMMISSION

[Inv. Nos. 731-TA-846-850 (Review)]

Carbon and Alloy Seamless Standard, Line, and Pressure Pipe From the Czech Republic, Japan, Mexico, Romania, and South Africa

AGENCY: United States International Trade Commission.

ACTION: Revised schedule for the subject reviews.

DATES: Effective Date: February 10, 2006.

FOR FURTHER INFORMATION CONTACT: Christopher J. Cassise (202-708-5408 or e-mail at chris.cassise@usitc.gov), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these investigations may be viewed on the Commission's electronic docket (EDIS) at http://edis.usitc.gov.

SUPPLEMENTARY INFORMATION: On September 12, 2005, the Commission established a schedule for the conduct of the full five-year reviews on carbon and alloy seamless standard, line, and pressure pipe from the Czech Republic, Japan, Mexico, Romania, and South Africa (70 FR 55917, September 23, 2005). The Commission is revising its schedule.

The Commission's new schedule for the subject reviews is as follows: The closing of the record and the Commission's final release of information is scheduled for March 31, 2006 and final party comments are due on April 4, 2006.

For further information concerning these reviews see the Commission's notice cited above and the Commission's Rules of Practice and Procedure, part 201, subparts A through E (19 CFR part 201), and part 207, subparts A and C (19 CFR part 207).

Authority: These reviews are being conducted under authority of title VII of the Tariff Act of 1930; this notice is published pursuant to section 207.21 of the Commission's rules.

Issued: February 13, 2006.
By order of the Commission.
Marilyn R. Abbott,
Secretary to the Commission.

[FR Doc. E6-2277 Filed 2-15-06; 8:45 am]

BILLING CODE 7020-02-P